Title 3—

The President

Proclamation 8115 of March 21, 2007

Greek Independence Day: A National Day of Celebration of Greek and American Democracy, 2007

By the President of the United States of America

A Proclamation

The United States and Greece share a long friendship built on common values and an abiding love for freedom. On Greek Independence Day, we underscore the warm ties between our countries, recognize the Greek Americans who enrich our society, and commemorate the anniversary of modern Greece.

The ancient Greeks entrusted their citizens with the right to govern, and they believed in the power of freedom to protect human dignity and basic human rights. Many of America's Founding Fathers studied Greek history and took inspiration from these democratic ideals as they framed our Constitution. The founders of modern Greece had the strong support of our own young democracy when they declared their independence in 1821, and our nations have stood as allies in the major conflicts of the 20th century. Today, we continue to defend freedom together in the global war on terror, as Greek and American Armed Forces work to lay the foundation of peace for generations to come.

On Greek Independence Day, and throughout the year, we celebrate the universality of freedom and the enduring bonds between Greece and the United States.

NOW, THEREFORE, I, GEORGE W. BUSH, President of the United States of America, by virtue of the authority vested in me by the Constitution and laws of the United States, do hereby proclaim March 25, 2007, as Greek Independence Day: A National Day of Celebration of Greek and American Democracy. I call upon all Americans to observe this day with appropriate ceremonies and activities.

IN WITNESS WHEREOF, I have hereunto set my hand this twenty-first day of March, in the year of our Lord two thousand seven, and of the Independence of the United States of America the two hundred and thirty-first.

[FR Doc. 07-1477

Filed 3-22-07; 11:25 am]

Billing code 3195-01-P